DEPARTMENT OF HEALTH AND HUMAN SERVICES

National Institutes of Health

Proposed Collection; 60-Day Comment Request; Evaluation of the Enhancing Diversity of the NIH-Funded Workforce Program (NIGMS)

SUMMARY: In compliance with the requirement of Section 3506(c)(2)(A) of the Paperwork Reduction Act of 1995, for opportunity for public comment on proposed data collection projects, the National Institute of General Medical Sciences, National Institutes of Health (NIH), will publish periodic summaries of proposed projects to be submitted to the Office of Management and Budget (OMB) for review and approval.

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

To Submit Comments and for Further Information: To obtain a copy of the data collection plans and instruments, submit comments in writing, or request more information on the proposed project, contact: Dr. Michael Sesma, Chief, Postdoctoral Training Branch, Division of Training, Workforce Development, and Diversity, NIGMS, 45 Center Drive, Room 2AS43H, Bethesda, MD 20892, or call non-toll-free number (301) 594-3900, or Email your request, including your address to: msesma@nigms.nih.gov. Formal requests for additional plans and instruments must be requested in writing.

Comment Due Date: Comments regarding this information collection are best assured of having their full effect if received within 60 days of the date of this publication.

Proposed Collection: Evaluation of the Enhancing the Diversity of the NIH-funded Workforce Program Consortium (DPC), National Institute of General Medical Sciences (NIGMS), National Institutes of Health (NIH).

Need and Use of Information Collection: The goal of the DPC is to address a unique and compelling need identified by NIH, namely to enhance the diversity of well-trained biomedical research scientists who can successfully compete for NIH research funding and/or otherwise contribute to the NIH-funded scientific workforce. The DPC is a national collaborative through which awardee institutions, in partnership with NIH, aim to enhance diversity in the biomedical research workforce through the development, implementation, assessment and dissemination of innovative and effective approaches to: (a) Student outreach, engagement, training, and mentoring, (b) faculty development, and (c) institutional research training infrastructure. The Coordination and Evaluation Center (CEC) will evaluate the efficacy of the training and mentoring approaches implemented across a variety of contexts and populations and will disseminate information to the broader research community. The planned consortium-wide data collection and evaluation will provide comprehensive information about the multi-dimensional factors (individual, institutional, and faculty/mentor) that influence student and faculty success, professional development, and persistence within biomedical research career paths across a variety of contexts. The planned data collection, and the resulting findings, is projected to have a sustained, transformative effect on biomedical research training and mentoring nationwide.

OMB approval is requested for 3 years. There are no costs to respondents other than their time. The total estimated annualized burden hours are 70,260.

Estimated Annualized Burden Hours
A.12.1: Annualized estimate of hour burden: Type of respondents | A.12.1: Annualized estimate of hour burden: Number of respondents | A.12.1: Annualized estimate of hour burden: Frequency of response | A.12.1: Annualized estimate of hour burden: Average time per response (in hours) | A.12.1: Annualized estimate of hour burden: Annual hour burden
BUILD Student—Entrance Survey (Version A:HERI Freshman Survey, Version B: HERI Freshman Survey for Non-Freshman Transfers) | 15,000 | 1 | 45/60 | 11,250
BUILD Student—Follow-up survey at the end of the first attendance year (HERI Your First College Year) | 15,000 | 1 | 45/60 | 11,250
BUILD Student—Follow-up survey at graduation (HERI College Senior Survey) | 15,000 | 1 | 45/60 | 11,250
BUILD Student Annual Tracking Survey | 45,000 | 1 | 25/60 | 18,750
BUILD Faculty survey (HERI Faculty Survey) | 500 | 1 | 45/60 | 375
BUILD Faculty Annual Tracking survey | 500 | 2 | 25/60 | 417
BUILD Institutions—Institutional Research & Program Data Requests | 10 | 3 | 16 | 480
BUILD Institutions—Implementation Reports | 10 | 3 | 16 | 480
BUILD Institutions—Site Visits | 120 | 3 | 24 | 8,640
BUILD Institutions—Case Studies | 26 | 1 | 40 | 1,040
BUILD Students, Faculty & Administrators—Case Study Interviews | 780 | 1 | 1 | 780
NRMN Participants—Annual tracking surveys (NRMN Mentee Tracking Survey OR NRMN Mentor Tracking Survey) | 2270 | 6 | 15/60 | 3405
NRMN Participants—Program specific modules for tracking survey (Mentor Skills, Research & Grant Writing, Mentee Assessment of Mentor, Coaching Training, Institutional Context) | 5780 | 2 | 10/60 | 1927
NRMN site visits | 1 | 6 | 16 | 96
NRMN case studies | 60 | 2 | 1 | 120
Total |  |  |  | 70,260

Dated: September 22, 2015.
Tammy Dean-Maxwell,
Project Clearance Liaison, NIGMS, NIH.

[FR Doc. 2015-24594 Filed 9-25-15; 8:45 am]

BILLING CODE 4140-01-P